COMMITTEE FOR PURCHASE FROM PEOPLE WHO ARE BLIND OR SEVERELY DISABLED

Procurement List Additions

AGENCY: Committee for Purchase From People Who Are Blind or Severely Disabled.

ACTION: Notice.

SUMMARY: This action adds products to the Procurement List that will be furnished by nonprofit agencies employing persons who are blind or have other severe disabilities.

DATES: Effective February 17, 2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 11/15/2013 (78 FR 68823-68824) and 11/22/2013 (78 FR 70022-70023), the Committee for Purchase From People Who Are Blind or Severely Disabled published notices of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

Cover, Certificate-Document, Gold Foil Stamped

NSN: 7510-00-NIB-1853—Green

NSN: 7510-00-NIB-9910—Burgundy

NSN: 7510-00-NIB-9917—Red

NPA: Dallas Lighthouse for the Blind, Inc., Dallas, TX

Contracting Activity: General Services Administration, New York, NY

Coverage: A-List for the Total Government Requirement as aggregated by the General Services Administration.

Kit, Paint, Professional Grade

NSN: 8020-00-NIB-0051—6PC

NSN: 8020-00-NIB-0052—14PC

NSN: 8020-00-NIB-0054—4PC

NPA: Industries for the Blind, Inc., West Allis, WI

Contracting Activity: General Services Administration, Tools Acquisition Division I, Kansas City, MO

Coverage: B-List for the Broad Government Requirement as aggregated by the General Services Administration.

Sponge, All-Purpose, Nylon Mesh

NSN: 7920-00-NIB-0556—5″ x 3½″ x 1¼″

NSN: 7920-00-NIB-0569—7½″ x 4¼″ x 1¾″

NPA: New York City Industries for the Blind, Inc., Brooklyn, NY

Contracting Activity: General Services Administration, Fort Worth, TX

Coverage: A-List for the Total Government Requirement as aggregated by the General Services Administration.

Barry S. Lineback,
Director, Business Operations.

[FR Doc. 2014-00840 Filed 1-16-14; 8:45 am]

BILLING CODE 6353-01-P